DEPARTMENT OF STATE

[Public Notice:12436]

Specially Designated Global Terrorist Designations of Nordic Resistance Movement, Tor Fredrik Vejdeland, Pär Öberg, and Leif Robert Eklund

Acting under the authority of and in accordance with section 1(a)(ii)(A) of Executive Order 13224, as amended (“E.O. 13224” or “Order”), the Secretary of State has determined that the person known as Nordic Resistance Movement (also known as NRM, Nordiska motståndsrörelsen, NMR, Swedish Resistance Movement, Svenska motståndsrörelsen, SMR, NRM-Sweden, Finnish Resistance Movement, Suomen Vastarintaliike, NRM-Finland, Kohti Vapautta!, Norwegian Resistance Movement, Den norske motstandsbevegelsen, NRM-Norway) is a foreign person who has committed or attempted to commit, poses a significant risk of committing, or has participated in training to commit acts of terrorism that threaten the security of United States nationals or the national security, foreign policy, or economy of the United States.

Additionally, acting under the authority of and in accordance with section 1(a)(ii)(B)(2) of E.O. 13224, the Secretary of State has determined that the persons known as Tor Fredrik Vejdeland (also known as Fredrik Vejdeland), Pär Öberg, and Leif Robert Eklund (also known as Robert Eklund), are foreign persons who are leaders of Nordic Resistance Movement, an entity whose property and interests in property are concurrently blocked pursuant to a determination by the Secretary of State pursuant to E.O. 13224.

Consistent with the determination in section 10 of E.O. 13224 that prior notice to persons determined to be subject to the Order who might have a constitutional presence in the United States would render ineffectual the blocking and other measures authorized in the Order because of the ability to transfer funds instantaneously, the Secretary of State determines that no prior notice needs to be provided to any person subject to this determination who might have a constitutional presence in the United States, because to do so would render ineffectual the measures authorized in the Order.

This determination shall be published in the Federal Register.

Dated: June 14, 2024.
Elizabeth H. Richard,
Coordinator for Counterterrorism.

[FR Doc. 2024-14942 Filed 7-8-24; 8:45 am]

BILLING CODE 4710-AD-P